DEPARTMENT OF HEALTH AND HUMAN SERVICES

National Institutes of Health

National Heart, Lung, and Blood Institute; Notice of Meeting

Pursuant to section 1009 of the Federal Advisory Committee Act, as amended, notice is hereby given of a meeting of the National Asthma Education Prevention Program Coordinating Committee.

The meeting will be held as a virtual meeting and is open to the public. Individuals who plan to attend and need special assistance, such as sign language interpretation or other reasonable accommodations to view the meeting, should notify the Contact Person listed below in advance of the meeting. The meeting can be accessed from the NIH Videocast at the following link: https://videocast.nih.gov/watch=52355.

Name of Committee: National Asthma Education Prevention Program Coordinating Committee

Date: September 22, 2023.

Time: 11:00 a.m. to 2:00 p.m.

Agenda: Programmatic and Scientific Updates.

Place: National Institutes of Health, Rockledge II, 6705 Rockledge Drive, Bethesda, MD 20892, (Virtual Meeting).

Virtual Access: https://videocast.nih.gov/watch=52355.

Contact Person: Susan Shero, MS, Program Officer, Center for Translational Research and Implementation Science, National Heart, Lung, and Blood Institute, National Institutes of Health, 6705 Rockledge Drive, Bethesda, MD 20892, 301-496-1051, susan.shero@nih.gov.

This notice is being published less than 15 days prior to the meeting due to scheduling conflicts.

Any interested person may file written comments with the committee by forwarding the statement to the Contact Person listed on this notice. The statement should include the name, address, telephone number and when applicable, the business or professional affiliation of the interested person.

Information is also available on the Institute's/Center's homepage: https://www.nhlbi.nih.gov/advisory-and-peer-review-committees/national-asthma-education-and-prevention-program-coordinating, where an agenda and any additional information for the meeting will be posted when available.

(Catalogue of Federal Domestic Assistance Program Nos. 93.233, National Center for Sleep Disorders Research; 93.837, Heart and Vascular Diseases Research; 93.838, Lung Diseases Research; 93.839, Blood Diseases and Resources Research, National Institutes of Health, HHS)

Dated: September 13, 2023.
Melanie J. Pantoja,
Program Analyst, Office of Federal Advisory Committee Policy.

[FR Doc. 2023-20158 Filed 9-18-23; 8:45 am]

BILLING CODE 4140-01-P